FEDERAL COMMUNICATIONS COMMISSION

47 CFR Part 73

[DA 00-574; MM Docket No. 99-181; RM-9584; RM-9700]

Radio Broadcasting Services; Merced and North Fork, CA

AGENCY: Federal Communications Commission.

ACTION: Final rule.

SUMMARY: In response to a proposal filed on behalf of San Joaquin Radio Company, LLC, licensee of Station KAJZ(FM), Merced, California, the Commission substitutes Channel 300B1 for Channel 299A at Merced and reallots Channel 300B1 to North Fork, California, as that community's first local aural transmission service, and modifies the license for Station KAJZ(FM) accordingly. (A competing proposal filed on behalf of Mountain West Broadcasting to allot Channel 300A to Easton, California, was denied.) See 64 FR 30291, June 7, 1999. Coordinates used for Channel 300B1 at North Fork are 37-14-39 NL and 119-33-58 WL.

Additionally, this document makes an editorial amendment to 47 CFR Part 73, Radio Broadcast Services, § 73.202(b), Table of FM Allotments, to include Channel 268B at Merced, California. Although Channel 268B was allotted to Merced in the original Table of Allotments, and is licensed at that community, it does not appear in § 73.202(b). With this action, the proceeding is terminated.

DATES: Effective May 1, 2000.

FOR FURTHER INFORMATION CONTACT: Nancy Joyner, Mass Media Bureau, (202) 418-2180.

SUPPLEMENTARY INFORMATION: This is a synopsis of the Commission's Report and Order, MM Docket No. 99-181, adopted March 8, 2000, and released March 17, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of Title 47 of the Code of Federal Regulations is amended as follows:

PART 73—[AMENDED]

1. The authority citation for part 73 continues to read as follows:

Authority: 47 U.S.C. 154, 303, 334, 336.

§ 73.202 [Amended]

2. Section 73.202(b), the Table of FM Allotments under California, is amended by adding Channel 268B at Merced.

3. Section 73.202(b), the Table of FM Allotments under California, is amended by removing Channel 299A at Merced.

4. Section 73.202(b), the Table of FM Allotments under California is amended by adding North Fork, Channel 300B1.

Federal Communications Commission.
John A. Karousos,
Chief, Allocations Branch, Policy and Rules Division, Mass Media Bureau.

[FR Doc. 00-8174 Filed 4-3-00; 8:45 am]

BILLING CODE 6712-01-P